DEPARTMENT OF AGRICULTURE

Animal and Plant Health Inspection Service

[Docket No. 04-056-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of regulations that restrict the importation of certain animal materials and their derivatives, and any products containing those materials and derivatives, to prevent the introduction of bovine spongiform encephalopathy into the United States.

DATES: We will consider all comments that we receive on or before September 20, 2004.

ADDRESSES: You may submit comments by any of the following methods:

• Postal Mail/Commercial Delivery: Please send four copies of your comment (an original and three copies) to Docket No. 04-056-1, Regulatory Analysis and Development, PPD, APHIS, Station 3C71, 4700 River Road Unit 118, Riverdale, MD 20737-1238. Please state that your comment refers to Docket No. 04-056-1.

• E-mail: Address your comment to regulations@aphis.usda.gov. Your comment must be contained in the body of your message; do not send attached files. Please include your name and address in your message and “Docket No. 04-056-1” on the subject line.

• Agency Web site: Go to http://www.aphis.usda.gov/ppd/rad/cominst.html for a form you can use to submit an e-mail comment through the APHIS Web site.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: For information on regulations that restrict the importation of animal materials and their derivatives, and any products they are used in, contact Dr. Christopher Robinson, Senior Staff Veterinarian, Technical Trade Services, National Center for Import and Export, VS, APHIS, 4700 River Road Unit 40, Riverdale MD 20737-1231; (301) 734-7837. For copies of more detailed information on the information collection, contact Mrs. Celeste Sickles, APHIS' Information Collection Coordinator, at (301) 734-7477.

SUPPLEMENTARY INFORMATION: Title: Importation Prohibitions Because of Bovine Spongiform Encephalopathy.

OMB Number: 0579-0183.

Type of Request: Extension of approval of an information collection.

Abstract: Under the Animal Health Protection Act (7 U.S.C. 8301-8317), the Animal and Plant Health Inspection Service, U.S. Department of Agriculture, regulates the importation of animals and animals products into the United States to prevent the introduction of animal diseases, such as bovine spongiform encephalopathy (BSE), into the United States. BSE is a progressive neurological disorder of cattle that results from infection by an unconventional transmissible agent.

The regulations in 9 CFR parts 93, 94, 95, and 96 govern the importation of certain animals, animal products, and animal byproducts into the United States in order to prevent the introduction of various animal disease, including BSE. Regulations in part 95 restrict the importation of processed animal protein, offal, tankage, fat and oils, and tallow; glands and unprocessed fat tissue from ruminants; derivatives of these materials; and products containing these materials, if they originate in or are stored, rendered, or otherwise processed, in a region listed in § 94.18(a). Section 94.18 lists regions where BSE exists or that present an undue risk of introducing BSE into the United States because of import requirements less restrictive than would be acceptable for importation into the United States or because of inadequate surveillance.

To help ensure that the restricted materials and products are not moved from a BSE-affected region into a BSE-free region and then to the United States, we require that such materials and products imported from BSE-free regions be accompanied by certification that the materials and products were derived only from animals that have never been in a region listed in § 94.18. The certification must state the species from which the material was derived; the region where the processing facility is located; a statement that the materials did not originate in and were never stored, rendered, or otherwise processed in a region listed in § 94.18(a); and were not otherwise associated with a facility located in a region listed in § 94.18(a) or with any materials that have been in a region listed in § 94.18(a). This certification is necessary to ensure that materials containing the BSE agent are not imported into the United States.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.16 hours per response.

Respondents: U.S. importers of regulated animal products, full-time, salaried, government veterinary officials of exporting regions, and foreign exporters of processed animal protein and other regulated materials and products.

Estimated annual number of respondents: 1,000.

Estimated annual number of responses per respondent: 9.

Estimated annual number of responses: 9,000.

Estimated total annual burden on respondents: 1,440 hours. (Due to averaging, the total annual burden hours may not equal the product of the annual number of responses multiplied by the reporting burden per response.)

All responses to this notice will be summarized and included in the request for OMB approval. All comments will also become a matter of public record.

Done in Washington, DC, this 16th day of July, 2004.
Kevin Shea,
Acting Administrator, Animal and Plant Health Inspection Service.

[FR Doc. 04-16707 Filed 7-21-04; 8:45 am]

BILLING CODE 3410-34-P